SMALL BUSINESS ADMINISTRATION

[Disaster Declaration #15092 and #15093]

California Disaster #CA-00263

AGENCY: U.S. Small Business Administration.

ACTION: Notice.

SUMMARY: This is a notice of an Administrative declaration of a disaster for the State of California dated 03/20/2017.

Incident: Severe Storms and Flooding.

Incident Period: 02/01/2017 through 02/25/2017.

DATES: Effective Date: 03/20/2017.

Physical Loan Application Deadline Date: 05/19/2017.

Economic Injury (EIDL) Loan Application Deadline Date: 12/20/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Colusa, Lake, Lassen, Plumas, Santa Clara, Santa Cruz.

Contiguous Counties:

California: Alameda, Butte, Glenn, Mendocino, Merced, Modoc, Monterey, Napa, San Benito, San Joaquin, San Mateo, Shasta, Sierra, Sonoma, Stanislaus, Sutter, Tehama, Yolo, Yuba.

Nevada: Washoe.

The Interest Rates are:

| Percent
For Physical Damage:
Homeowners with Credit Available Elsewhere | 3.750
Homeowners without Credit Available Elsewhere | 1.875
Businesses with Credit Available Elsewhere | 6.300
Businesses without Credit Available Elsewhere | 3.150
Non-Profit Organizations with Credit Available Elsewhere | 2.500
Non-Profit Organizations without Credit Available Elsewhere | 2.500
For Economic Injury:
Businesses & Small Agricultural Cooperatives without Credit Available Elsewhere | 3.150
Non-Profit Organizations without Credit Available Elsewhere | 2.500

The number assigned to this disaster for physical damage is 15092 6 and for economic injury is 15093 0.

The States which received an EIDL Declaration # are California, Nevada.

(Catalog of Federal Domestic Assistance Number 59008)

Dated: March 20, 2017.
Linda E. McMahon,
Administrator.

[FR Doc. 2017-06031 Filed 3-27-17; 8:45 am]

BILLING CODE 8025-01-P